DEPARTMENT OF THE INTERIOR

Bureau of Reclamation

Status Report of Water Service, Repayment, and Other Water-Related Contract Actions

AGENCY: Bureau of Reclamation, Interior.

ACTION: Notice.

SUMMARY: Notice is hereby given of contractual actions that have been proposed to the Bureau of Reclamation and are new, modified, discontinued, or completed since the last publication of this notice on July 27, 2011. From the date of this publication, future notices during this calendar year will be limited to new, modified, discontinued, or completed contract actions. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Division, Bureau of Reclamation, P.O. Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) The significance of the modification, and (ii) the degree of public interest which has been expressed over the course of the negotiations. At a minimum, the regional director will furnish revised contracts to all parties who requested the contract in response to the initial public notice.

Definitions of Abbreviations Used in this Document

ARRA—American Recovery and Reinvestment Act of 2009

BCP—Boulder Canyon Project

Reclamation—Bureau of Reclamation

CAP—Central Arizona Project

CVP—Central Valley Project

CRSP—Colorado River Storage Project

FR—Federal Register

IDD—Irrigation and Drainage District

ID—Irrigation District

LCWSP—Lower Colorado Water Supply Project

M&I—Municipal and Industrial

NMISC—New Mexico Interstate Stream Commission

O&M—Operation and Maintenance

P-SMBP—Pick-Sloan Missouri Basin Program

PPR—Present Perfected Right

RRA—Reclamation Reform Act of 1982

SOD—Safety of Dams

SRPA—Small Reclamation Projects Act of 1956

USACE—U.S. Army Corps of Engineers

WD—Water District

Pacific Northwest Region: Bureau of Reclamation, 1150 North Curtis Road, Suite 100, Boise, Idaho 83706-1234, telephone 208-378-5344.

The Pacific Northwest Region has no updates to report for this quarter.

Mid-Pacific Region: Bureau of Reclamation, 2800 Cottage Way, Sacramento, California 95825-1898, telephone 916-978-5250.

New Contract Actions

47. Contra Costa WD, CVP, California: Amendment to an existing O&M agreement to transfer O&M of the Contra Costa Rock Slough Fish Screen to the District. Initial construction funding provided through ARRA.

48. San Luis and Delta-Mendota Water Authority, CVP, California: Amendment to an existing O&M agreement to transfer O&M of the Delta-Mendota Canal California Aqueduct Intertie Project to the Authority. Initial construction funding provided through ARRA.

49. Irrigation water districts, individual irrigators and M&I water users, CVP, California: Temporary water service contracts for terms not to exceed 1 year for up to 100,000 acre-feet of surplus supplies of CVP water resulting from an unusually large water supply, not otherwise storable for project purposes, or from infrequent and otherwise unmanaged flood flows of short duration.

50. Irrigation water districts, individual irrigators, M&I and miscellaneous water users, California: Temporary Warren Act contracts for terms up to 5 years providing for use of excess capacity in CVP facilities for annual quantities exceeding 10,000 acre-feet.

51. Tehama-Colusa Canal Authority, CVP, California: Proposed transfer of O&M of the Red Bluff Fish Screen Project facilities to the Authority.

52. City of Redding, CVP, California: Proposed partial assignment of 30 acre-feet of the City of Redding's CVP water supply to the City of Shasta Lake for M&I use.

53. Langell Valley ID, Klamath Project; Oregon: Title transfer of lands and facilities of the Klamath Project.

54. Virginia L. Lempesis Separate Property Trust, CVP, California: Contract for the adjustment and settlement of certain claimed water rights in the Fresno Slough tributary to the San Joaquin River in fulfillment of such rights pursuant to contract No. I1r-1145 for the Purchase of Miller & Lux Water Rights, dated July 27, 1939.

Modified Contract Action

13. Byron-Bethany ID, CVP, California: Long-term operational exchange contract for exchange of nonproject water in the Delta-Mendota Canal.

Completed Contract Actions

15. Montecito WD, Cachuma Project, California: Contract to transfer title of the distribution system to the District. Title transfer authorized by Public Law 108-315, “Carpinteria and Montecito Water Distribution Conveyance Act of 2004.” Title transfer was completed on May 7, 2010.

18. A Canal Fish Screens, Klamath Project, Oregon: Negotiation of an O&M contract for the A Canal Fish Screens with Klamath ID. Contract executed on February 9, 2011.

Lower Colorado Region: Bureau of Reclamation, P.O. Box 61470 (Nevada Highway and Park Street), Boulder City, Nevada 89006-1470, telephone 702-293-8192.

New Contract Action

18. Verizon California Inc., BCP, Arizona: Proposed Acknowledgement No. 2 to Contract No. 14-06-300-2505 to acknowledge a name change from Verizon California Inc., to Frontier Communications West Coast Inc.

Upper Colorado Region: Bureau of Reclamation, 125 South State Street, Room 6107, Salt Lake City, Utah 84138-1102, telephone 801-524-3864.

The Upper Colorado Region has no updates to report for this quarter.

Great Plains Region: Bureau of Reclamation, P.O. Box 36900, Federal Building, 316 North 26th Street, Billings, Montana 59101, telephone 406-247-7752.

New Contract Actions

49. Southeastern Colorado Water Conservancy District, Fryingpan-Arkansas Project, Colorado: Consideration of amendatory contract and/or contract amendments.

50. Donala Water and Sanitation District, Fryingpan-Arkansas Project, Colorado: Consideration of a short- or long-term excess capacity contract.

51. Kensington Partners, Green Mountain Reservoir, Colorado-Big Thompson Project, Colorado: Consideration of an amendment to the existing contract to reduce the amount of water service by 225 acre-feet of municipal/domestic water and assign the water to the Upper Eagle Regional Water Authority.

Completed Contract Actions

11. Security Water and Sanitation District, Fryingpan-Arkansas Project, Colorado: Consideration of a request for a long-term contract for the use of excess capacity in the Fryingpan-Arkansas Project. Contract executed on May 4, 2011.

12. City of Fountain, Fryingpan-Arkansas Project, Colorado: Consideration of a request for a long-term contract for the use of excess capacity in the Fryingpan-Arkansas Project. Contract executed May 4, 2011.

16. Pueblo West Metropolitan District, Pueblo West, Fryingpan-Arkansas Project, Colorado: Consideration of a request for a long-term contract for the use of excess capacity in the Fryingpan-Arkansas Project. Contract executed May 4, 2011.

34. Colorado Springs Utilities, Fryingpan-Arkansas Project, Colorado: Consideration of a request for a long-term contract for the use of excess capacity in the Fryingpan-Arkansas Project and annual repayment for the operation, maintenance, and replacement costs of the single-purpose municipal works. Contract executed on May 4, 2011.

35. Garrison Diversion Conservancy District, Garrison Diversion Project, North Dakota: Intent to enter into temporary or interim irrigation or miscellaneous use water service contracts to provide up to 1,000 acre-feet of water annually for terms of up to 5 years. Contract executed on June 9, 2011.

45. Frenchman Valley ID, P-SMBP, Nebraska: Consideration of a request to amend the water service contract to change the billing due date to better account for when assessments are paid to the District. Contract executed on June 29, 2011.

Dated: August 17, 2011.
Roseann Gonzales,
Director, Policy and Administration.

[FR Doc. 2011-25002 Filed 9-28-11; 8:45 am]

BILLING CODE 4310-MN-P